DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Interagency Electronic Reporting System (IERS).

OMB Control Number: 0648-0515.

Form Number(s): None.

Type of Request: Regular (extension of a currently approved information collection).

Number of Respondents: 206.

Average Hours per Response: 35 minutes for a tLandings landing report; 30 minutes for catcher/processor eLandings landing report; 18 minutes for active response and 5 minutes for inactive response for pilot catcher vessel trawl electronic logbook (eLog); 15 minutes for active response and 5 minutes for inactive response for catcher vessel eLog, catcher/processor eLog and mothership eLog; 15 minutes for eLandings registration; 10 minutes for eLandings/seaLandings landing report; and 20 minutes for at-sea response; and 10 minutes for shoreside and stationary floating processor response for eLandings/seaLandings production report.

Burden Hours: 22,850.

Needs and Uses: This request is for an extension of a current information collection.

eLandings, seaLandings, and tLandings are data entry components of the Alaska Interagency Electronic Reporting System (IERS), which is a collaborative program run by the National Marine Fisheries Service (NMFS) Alaska Regional Office, the Alaska Department of Fish and Game (ADF&G), and the International Pacific Halibut Commission (IPHC). eLandings, seaLandings, and tLandings provide the Alaska fishing industry with a consolidated electronic means of reporting production and landings of commercial fish and shellfish to multiple management agencies with a single reporting system. NMFS collects groundfish harvest and production data for fishery management plan species in the Exclusive Economic Zone (EEZ). ADF&G collects harvest data for groundfish species taken in State of Alaska waters and has responsibility for some fisheries in the EEZ, such as lingcod and black rockfish. ADF&G and NMFS cooperatively manage the Crab Rationalization Program fisheries in the Bering Sea and Aleutian Islands Management Area. NMFS and IPHC cooperatively manage Individual Fishing Quota (IFQ) for Pacific halibut and sablefish in both State waters and in the EEZ.

eLandings is a web-based application used by vessels and processors to report groundfish, crab, Pacific halibut, and sablefish production and landings data. Processors with limited internet access, such as the at-sea fleet, use eLandings client desktop software named seaLandings, provided by NMFS, and submit the required reports as email attachments or via direct transmit over the Internet. Once data are entered and submitted, the User must print daily through eLandings each landing report, production report, logbook report, and if an IFQ delivery, each IFQ receipt. The parties to the information must acknowledge the accuracy of the printed reports by signing them and entering the date signed. In addition, the User must make the printed copies available upon request of NMFS observers and authorized officers.

tLandings is a software application for tender vessels that records landings data on a USB flash drive and creates a printable fish ticket. The fish ticket is printed on board the tender vessel and signed by the delivering catcher vessel operator. When the tender vessel delivers to the shoreside processor, the shoreside processor uploads the landing information on the USB flash drive into eLandings.

Some of the benefits of IERS include improved data quality, automated processing of data, improved process for correcting or updating information, availability of more timely data for fishery managers, and reduction of duplicative reporting of similar information to multiple agencies.

Affected Public: Business or other for-profit organizations; individuals or households.

Frequency: Daily and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 22, 2017.
Sarah Brabson,
NOAA PRA Clearance Officer.

[FR Doc. 2017-20712 Filed 9-26-17; 8:45 am]

BILLING CODE 3510-22-P